DEPARTMENT OF JUSTICE

Notice of Lodging of Partial Consent Decree Under the Clean Water Act

Under 28 CFR 50.7, notice is hereby given that on July 27, 2004, a proposed Consent Decree in United States and State of Ohio v. City of Cambridge, Civil Action No. 01-10604, was lodged with the United States District Court for the Southern District of Ohio.

This Consent Decree resolves specified claims against the City of Cambridge under the Clean Water Act, 33 U.S.C. 1251 et seq., as set forth in the Complaint filed by the United States on October 30, 2001. Cambridge owns and operates a publicly-owned wastewater treatment works (“POTW”), and it discharges effluent from the POTW through an outfall into Wills Creek, a navigable water of the United States. Cambridge also disposes of sewage sludge from the POTW through land application.

The proposed consent decree (CD) requires the City of Cambridge to complete the following: (1) Identify and remove any sewer cross connection existing in its collection system within 120 days of entry of the CD; (2) implement several flow reduction projects by December 2005; (3) implement several pump station improvement projects by January 2007; (4) complete the necessary renovations to its plant sludge digesters within 180 days of entry of the CD; (5) update its operations and maintenance manual within thirty days of entry of the CD; (6) develop a sewer overflow action plan within thirty days of entry of the CD; and (7) evaluate its collection system one year after implementation of all the proposed consent decree work relating to both the flow reduction projects and the pump station improvements to see if the City's treatment works facility and collection system is still sustaining excessive infiltration/inflow (“I/I”); and if excessive I/I was discovered, submit a work plan to the governmental agencies detailing what it will do to remove any excess I/I found. The proposed consent decree also obligates the City of Cambridge to pay civil penalties totaling $70,000, which is to be split equally between the United States and the State of Ohio.

The Department of Justice will receive for a period of thirty (30) days from the date of this publication comments relating to the proposed consent decree. Comments should be addressed to the Assistant Attorney General, Environment and Natural Resources Division, P.O. Box 7611, U.S. Department of Justice, Washington, DC 20044-7611, and should refer to United States and State of Ohio v. City of Cambridge, D.J. Ref. 90-5-1-1-06501.

The proposed consent decree may be examined at U.S. EPA Region V, 77 West Jackson Blvd, Chicago, IL 60604-3590. A copy of the proposed consent decree may also be obtained by mail from the Consent Decree Library, P.O. Box 7611, U.S. Department of Justice, Washington, DC 20044-7611. During the public comment period, the proposed consent decree may also be examined on the following Department of Justice Web site, http://www.usdoj.gov/enrd/open.html. A copy of the proposed consent decree may also be obtained by mail from the Consent Decree Library, P.O. Box 7611, U.S. Department of Justice, Washington, DC 20044-7611 or by faxing or e-mailing a request to Tonia Fleetwood (tonia.fleetwood@usdoj.gov), fax No. (202) 514-0097, phone confirmation number (202) 514-1547. In requesting a copy of the proposed consent decree, please enclose a check in the amount of $16.00, payable to the U.S. Treasury, for reproduction costs.

William D. Brighton,
Assistant Chief, Environmental Enforcement Section, Environment and Natural Resources Division.

[FR Doc. 04-18943 Filed 8-17-04; 8:45 am]

BILLING CODE 4410-15-M